DEPARTMENT OF THE INTERIOR

National Park Service

[NPS-WASO-NAGPRA-NPS0025296, PPWOCRADN0-PCU00RP14.R50000]

Notice of Inventory Completion: Wisconsin Historical Society, Madison, WI

AGENCY: National Park Service, Interior.

ACTION: Notice.

SUMMARY: The Wisconsin Historical Society has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Wisconsin Historical Society. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Wisconsin Historical Society at the address in this notice by May 21, 2018.

ADDRESSES: Jennifer Kolb, Wisconsin Historical Society, 816 State Street, Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI. The human remains and associated funerary objects were removed from four locations in Winnebago County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and Upper Sioux Community, Minnesota.

History and Description of the Remains

In 1994, human remains representing, at minimum, four individuals were removed from Plummer's Point (47-WN-0055) in Winnebago County, WI. The site consists of a mound, garden beds, cache pits, fire pits, and burials. An unknown person collected the human remains eroding from an animal burrow. Through skeletal analysis, Wisconsin Historical Society staff determined the human remains represent three adults of indeterminate sex and one juvenile of indeterminate sex. No known individuals were identified. No associated funerary objects are present.

In 1993, human remains representing, at minimum, three individuals were removed from Butte des Morts Burials (47-WN-0083) in Winnebago County, WI. The human remains were discovered while digging a trench for a water line on a residential plot. Wisconsin Historical Society Burial Sites Preservation Office staff and Jeff Behm, Assistant Professor of Anthropology at University of Wisconsin—Oshkosh (UW—Oshkosh), excavated the burials. The exposed human remains were transferred to the Wisconsin Historical Society for examination while the rest of the burials were left in situ. The human remains were determined to represent two adult males and one adult female. No known individuals were identified. No associated funerary objects are present.

In 1993, human remains representing, at minimum, 19 individuals were removed from the Barefoot Site (47-WN-0280) in Winnebago County, WI. The human remains were excavated prior to the construction of a new housing subdivision, just east of the town of Winneconne. Initial machine stripping of the site revealed numerous features and a number of burials. Mapping and limited excavations of these features were done by archeologists Richard and Carol Mason under the direction of the Wisconsin Historical Society Burial Sites Protection Office (BSPO). Archeologists from the BSPO excavated nine burials (Burials 1-9). An additional four burials were excavated by archeologists from UW—Oshkosh; these human remains were transferred to the Wisconsin Historical Society (Burials 10-13). There is no archeological report describing Burials 1-9. Skeletal analysis for Burials 1-9 was completed in 2015 and it was discovered that none of the human remains were labeled as being from Burial 6. Because Wisconsin Historical Society has in its possession a copper celt that was found with Burial 6, it is possible that the human remains from Burial 6 are present but were mislabeled as being from another burial. However, absent an archeological report for Burials 1-9, it is impossible to determine which human remains were excavated from Burial 6 or if human remains were excavated from that feature. The human remains from all of the burial features were determined to represent eight adult males, four adult females, five juveniles, and two individuals of indeterminate age and sex. No known individuals were identified. The five associated funerary objects are one copper celt, one pipe, one chert point, one group of glass beads, and one stem fragment from a kaolin pipe.

At an unknown date, human remains representing, at minimum, two individuals were removed from Blair Burials (47-WN-0720) in Winnebago County, WI. Sometime prior to 1912, the human remains were removed from a gravel pit located on the T.B. Blair property on a gravel ridge overlooking the western shore of Lake Butte des Morts. Charles E. Brown of the Wisconsin Historical Society states the human remains were discovered when a railroad cut was excavated. Blair donated the human remains to the Wisconsin Historical Society in 1920. In a letter to Charles E. Brown dated January 13, 1912, Blair states that he had two skulls in his possession. Based on the description given by Blair, it is assumed that these skulls are those currently in Wisconsin Historical Society's possession. In 1949, the mandible from one of the skulls was loaned to the University of Wisconsin—Madison and was returned to the Wisconsin Historical Society in 2011. Skeletal analysis conducted in 2005 determined that the human remains represent an adult, possibly female, and an adult male of mixed ancestry. This determination was confirmed after the return of the loaned mandible. No known individuals were identified. No associated funerary objects are present.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of 28 individuals of Native American ancestry.

• Pursuant to 25 U.S.C. 3001(3)(A), the five objects described in this notice are reasonably believed to have been placed with or near individual human remains at the time of death or later as part of the death rite or ceremony.

• Pursuant to 25 U.S.C. 3001(2), a relationship of shared group identity cannot be reasonably traced between the Native American human remains associated funerary objects and any present-day Indian Tribe.

• Treaties, Acts of Congress, or Executive Orders, indicate that the land from which the Native American human remains were removed is the aboriginal land of the Ho-Chunk Nation of Wisconsin; Menominee Indian Tribe of Wisconsin; Stockbridge Munsee Community, Wisconsin; and the Winnebago Tribe of Nebraska.

• Pursuant to 43 CFR 10.11(c)(1), the disposition of the human remains may be to the Ho-Chunk Nation of Wisconsin; Menominee Indian Tribe of Wisconsin; Stockbridge Munsee Community, Wisconsin; and the Winnebago Tribe of Nebraska.

Additional Requestors and Disposition

Representatives of any Indian Tribe or Native Hawaiian organization not identified in this notice that wish to request transfer of control of these human remains and associated funerary objects should submit a written request with information in support of the request to Jennifer Kolb, Wisconsin Historical Society, 816 State Street, Madison, WI 53706, telephone (608) 264-6434, email Jennifer.Kolb@wisconsinhistory.org, by May 21, 2018. After that date, if no additional requestors have come forward, transfer of control of the human remains and associated funerary objects to the Ho-Chunk Nation of Wisconsin; Menominee Indian Tribe of Wisconsin; Stockbridge Munsee Community, Wisconsin; and the Winnebago Tribe of Nebraska may proceed.

The Wisconsin Historical Society is responsible for notifying the Forest County Potawatomi Community, Wisconsin; Ho-Chunk Nation of Wisconsin; Lac du Flambeau Band of Lake Superior Chippewa Indians of the Lac du Flambeau Reservation of Wisconsin; Menominee Indian Tribe of Wisconsin; Stockbridge Munsee Community, Wisconsin; Upper Sioux Community, Minnesota; and the Winnebago Tribe of Nebraska that this notice has been published.

Dated: March 22, 2018.
Melanie O'Brien,
Manager, National NAGPRA Program.

[FR Doc. 2018-08183 Filed 4-18-18; 8:45 am]

BILLING CODE 4312-52-P